DEPARTMENT OF COMMERCE

National Oceanic and Atmospheric Administration

Release of the Draft National Charting Plan

AGENCY: Office of Coast Survey, National Ocean Service, National Oceanic and Atmospheric Administration (NOAA), Department of Commerce.

ACTION: Request for comments.

SUMMARY: The NOAA Office of Coast Survey has released a draft National Charting Plan. The plan describes the current set of NOAA nautical chart products and their distribution, as well as some of the steps Coast Survey is taking to improve NOAA charts, including changes to chart formats, scales, data compilation, and symbology. The purpose of the plan is to solicit feedback from nautical chart users regarding proposed changes to NOAA's paper and electronic chart products. Coast Survey invites written comments on this plan that is available from https://nauticalcharts.noaa.gov/staff/news/2017/nationalchartingplan.html.

DATES: Comments are due by midnight, June 1, 2017.

ADDRESSES: Submit comments on the National Charting Plan through NOAA's Nautical Discrepancy Report System at http://ocsdata.ncd.noaa.gov/idrs/discrepancy.aspx, or via mail to National Ocean Service, NOAA (NCS2), ATTN National Charting Plan, 1315 East-West Highway, Silver Spring MD 20910-3282.

FOR FURTHER INFORMATION CONTACT: Colby Harmon, telephone 301-713-2737, ext.187; email: colby.harmon@noaa.gov.

SUPPLEMENTARY INFORMATION: The first complete nautical chart published by the Coast Survey of New York Harbor was in 1844. The format, information, and intended uses of this first chart were quite similar to the raster charts that NOAA continues to make today. Although NOAA still produces “traditional” raster nautical charts, a sea change in chart production methods and the art of navigation began in the mid-1990s when Global Positioning System (GPS) technology and electronic navigational charts (ENCs) became available to the public.

Since the introduction of ENCs thirty years ago, the size of commercial vessels has increased more than four-fold and modern navigational systems have become more sophisticated. There are over 15 million recreational boats in the U.S. and recreational boaters have joined professional mariners in using electronic chart displays to ply the nation's waters. Users of all types are expecting improved ease of access to more precise, higher resolution charts that deliver the most up to date information possible.

Coast Survey has developed a number of strategies to meet this growing demand for greater performance in our products and services. These changes allow us to be more responsive to changing public needs for navigation data. In this context, Coast Survey has developed a national charting plan to outline the next steps for further improvement over the next generation. The national charting plan is responsive to years of formal and informal feedback on our products from the public and our partners. We are committed to ensuring that our products evolve with the changing needs of our many stakeholders. Comments received from nautical chart users about the National Charting Plan will help us fulfil this commitment.

Authority: 33 U.S.C. Chapter 17, Coast and Geodetic Survey Act of 1947.

Dated: February 16, 2017.
Kathryn Ries,
Deputy Director, Office of Coast Survey, National Ocean Service, National Oceanic and Atmospheric Administration.

[FR Doc. 2017-03936 Filed 2-28-17; 8:45 am]

BILLING CODE 3510-JE-P